SECURITIES AND EXCHANGE COMMISSION

[File No. 500-1]

In the Matter of Mosaic Nutriceuticals Corp.; Order of Suspension of Trading

February 2, 2005.

It appears to the Securities and Exchange Commission that the public interest and the protection of investors require a suspension of trading in the securities of Mosaic Nutriceuticals Corp. (“Mosaic”). The Commission is concerned that Mosaic and/or certain of its shareholders may have unjustifiably relied on Rule 144(k) of the Securities Act of 1933 (“Securities Act”) in conducting an unlawful distribution of its securities that failed to comply with the resale restrictions of Rules 144 and 145 of the Securities Act. Mosaic, a company that has made no public filings with the Commission or the NASD, is quoted on the Pink Sheets under the ticker symbol MCNJ, and has been the subject of a spam e-mail touting the company's shares.

The Commission is of the opinion that the public interest and the protection of investors require a suspension of trading in the securities of the above listed company.

Therefore, it is ordered, pursuant to Section 12(k) of the Securities Exchange Act of 1934, that trading in the above listed company is suspended for the period from 9:30 a.m. e.s.t. February 2, 2005 through 11:59 p.m. e.s.t., on February 15, 2005.

By the Commission.
Jill M. Peterson,
Assistant Secretary.

[FR Doc. 05-2264 Filed 2-2-05; 1:19 pm]

BILLING CODE 8010-01-P